SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before October 7, 2013.

ADDRESSES: Send all comments regarding whether these information collections are necessary for the proper performance of the function of the agency, whether the burden estimates are accurate, and if there are ways to minimize the estimated burden and enhance the quality of the collections, to Carol Fendler, Supervisor System Accountant, Office of Investment, Small Business Administration, 409 3rd Street SW., 6th Floor, Washington, DC 20416.

FOR FURTHER INFORMATION CONTACT: Carol Fendler, Supervisor System Accountant, 202-205-7559 carol.fendler@sba.gov Curtis B. Rich, Management Analyst, 202-205-7030 curtis.rich@sba.gov.

Title: ”Size Status Declaration”.

Abstract: The information collected on SBA Form 480, “Size Status Declaration” is a certification of small business size status. This information collection is used to ensure that SBIC financial assistance is provided only to small business concerns as defined in the Small Business Investment Act and SBA size regulations. Without this certification, businesses that exceed SBA's size standards could benefit from program resources meant for small businesses.

Description of Respondents: Small businesses requesting size determinations.

Form Number: 480.

Annual Responses: 2,500.

Annual Burden: 417.

Title: ”Financing Eligibility Statement -Social Disadvantaged/Economic: Disadvantage”.

Abstract: Small businesses seeking financing from specialized small business investment companies (SSBICs) will complete this form for the purpose of demonstrating their eligibility for such financing based on their ownership by individuals who are either socially or economically disadvantaged. Written certification of eligibility is required by the Small Business Investment Act of 1958.

Description of Respondents: Small business investment companies.

Form Number: 1941.

Annual Responses: 80.

Annual Burden: 160.

Curtis Rich,
Management Analyst.

[FR Doc. 2013-18903 Filed 8-5-13; 8:45 am]

BILLING CODE P